DEPARTMENT OF VETERANS AFFAIRS

Advisory Committee on U.S. Outlying Areas and Freely Associated States, Notice of Meeting

The Department of Veterans Affairs (VA) gives notice under the Federal Advisory Committee Act (FACA), 5 U.S.C. ch. 10, that the Advisory Committee on U.S. Outlying Areas and Freely Associated States (hereinafter the Committee) will hold its first inaugural meeting on December 12-December 14, 2023, at the San Juan VA Medical Center in San Juan, Puerto Rico. The meeting sessions will be conducted in the Education Center, Room 2M240, 2nd floor, as a hybrid meeting (in-person and virtual). Virtual attendance will be available via the Microsoft Teams platform. The meeting sessions will begin and end as follows:

Public participation will commence as follows:

Dates | Times | Locations | Open session
December 12, 2023 | 7:30 a.m.-4:30 p.m. Atlantic Standard Time (AST) | San Juan VA Medical Center, 10 Calle Casia, Education Center, RM 2M240, San Juan, Puerto Rico 00921 | Yes.
December 13, 2023 | 7:30 a.m.-9:00 a.m. AST | San Juan VA Medical Center, 10 Calle Casia, Education Center, RM 2M240, San Juan, Puerto Rico 00921 | Yes.
December 13, 2023 | 9:00 a.m.-4:00 p.m. AST | San Juan VBA Regional Office, 50 Carr 165, Guaynabo, San Juan, Puerto Rico 00934 and San Juan VA Medical Center, 10 Calle Casia, Education Center, RM 2M240, San Juan, Puerto Rico 00921 | No.
December 13, 2023 | 4:00 p.m.-4:30 p.m. AST | San Juan VA Medical Center, 10 Calle Casia, Education Center, RM 2M240, San Juan, Puerto Rico 00921 | Yes.
December 14, 2023 | 9:00 a.m.-12:00 p.m. AST | San Juan VA Medical Center, 10 Calle Casia, Education Center, RM 2M240, San Juan, Puerto Rico 00921 | Yes.

Sessions are open to the public, except when the Committee is conducting a tour of VA facilities. Tours of VA facilities are closed to protect Veterans' privacy and personal information by 5 U.S.C. 552b(c)(6).

The Committee's purpose is to advise the Secretary of Veterans Affairs on covered Veterans. The term covered Veteran is defined here as a Veteran residing in American Samoa, Guam, Puerto Rico, the Commonwealth of the Northern Mariana Islands, the Virgin Islands of the United States, the Federated States of Micronesia, the Republic of the Marshall Islands and the Republic of Palau. The Committee advises on improving VA programs and services to serve covered Veterans better.

On December 12, 2023, the Committee will convene an open session from 7:30 a.m. to 4:30 p.m. AST at the San Juan VA Medical Center (location shown in table above). The agenda will include opening remarks by the Committee Chairman, Committee member introductions; welcoming remarks from the Executive Director, Outreach, Transition and Economic Development; a briefing on the Veterans Benefits Administration's (VBA) efforts to assist covered Veterans, Family Members, Caregivers, and Survivors by the Principal Deputy Under Secretary for Benefits; remarks by the Deputy Secretary of VA; a FACA-101 briefing conducted by the Advisory Committee Management Office; a review of the Committee Charter and Ethics; Veterans Health Administration (VHA) initiatives and updates; and briefings regarding the Foreign Medical Program; Medical Disability Examination Office; Education benefits; Compensation Services; and Transition Assistance.

On December 13, 2023, the Committee will convene an open session from 7:30 a.m. to 9 a.m. AST at the San Juan VA Medical Center (location shown in table above), where the Committee will receive information about the Sergeant First Class Heath Robinson Honoring our Promise to Address Comprehensive Toxics Act (PACT Act); learn about the role of Regional Offices (RO); and receive an Overview of Survivor Benefits. From 9 a.m. to 4:00 p.m. AST, the Committee will reconvene a closed session as it tours the San Juan VBA Regional Office and San Juan VA Medical Center (location shown in table above). Tours of VA facilities are closed to protect Veterans' privacy and personal information, in accordance with 5 U.S.C. 552b(c)(6). The Committee will reconvene an open session from 4:00 p.m. to 4:30 p.m. AST at the San Juan VA Medical Center for a daily closeout with updates and reminders.

On December 14, 2023, the Committee will convene an open session from 9 a.m. to 12 p.m. AST at the San Juan VA Medical Center. The Committee will discuss observations from the San Juan VBA RO and VHA/VA Medical Center tours; receive updates on National Cemetery Administration Initiatives; receive public comments and hear from VA's Office of Public and Intergovernmental Affairs. The Committee will hold a daily closeout with updates and reminders to address follow-up and action items. The Committee meeting will adjourn at 12 p.m. AST.

On December 14, 2023, the public is invited to address the Committee during the public comment period, which will be open for 30 minutes from 9:45 a.m. to 10:15 a.m. AST. Individuals will be allowed 3-5 minutes to speak. Additionally, individuals who wish to provide public comments are invited to submit a one-page summary of their comments no later than December 5, 2023, for inclusion in the official meeting record. Members of the public may also submit written statements for the Committee's review to Mr. Bernard Johnson at fascommittee.vbaco@va.gov.

Members of the public may attend open sessions of the Committee meeting in person or virtually. Approximately 10 seats will be available for public stakeholders in attendance. The limited number of seats is due to the meeting room's capacity.

Members of the public who wish to attend virtually can do so by dialing into the Microsoft Teams conference or click here https://teams.microsoft.com/l/meetup-join/19%3ameeting_ZjRiYjY0NzQtY2M3Yi00ZWM1LWI0YjUtN2JhOGRlYTA3NjM0%40thread.v2/0?context=%7b%22Tid%22%3a%22e95f1b23-abaf-45ee-821d-b7ab251ab3bf%22%2c%22Oid%22%3a%22ceb1fc63-1a07-4176-8b72-f5cfa7b95dd5%22%7d.

Meeting ID: 285 717 370 382 or call only 1-205-235-3524.

Meeting ID: 641 975 916#.

Attendees requiring reasonable accommodation should notify Mr. Bernard Johnson at fascommittee.vbaco@va.gov no later than December 8, 2023.

Dated: November 15, 2023.
Jelessa M. Burney,
Federal Advisory Committee Management Officer.

[FR Doc. 2023-25598 Filed 11-17-23; 8:45 am]

BILLING CODE 8320-01-P